DEPARTMENT OF THE INTERIOR

National Park Service

[NPS-WASO-NAGPRA-NPS0033435; PPWOCRADN0-PCU00RP14.R50000]

Notice of Intent To Repatriate Cultural Items: Bryn Mawr College, Bryn Mawr, PA

AGENCY: National Park Service, Interior.

ACTION: Notice.

SUMMARY: Bryn Mawr College, in consultation with the appropriate Indian Tribes or Native Hawaiian organizations, has determined that the cultural items listed in this notice meet the definition of unassociated funerary objects. Lineal descendants or representatives of any Indian Tribe or Native Hawaiian organization not identified in this notice that wish to claim these cultural items should submit a written request to Bryn Mawr College. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to Bryn Mawr College at the address in this notice by March 30, 2022.

FOR FURTHER INFORMATION CONTACT: Marianne Weldon, Bryn Mawr College, 101 N Merion Ave, Bryn Mawr, PA 19010, telephone (610) 526-5022, email mweldon@brynmawr.edu.

SUPPLEMENTARY INFORMATION: Notice is here given in accordance with the Native American Graves Protection and Repatriation Act (NAGPRA), 25 U.S.C. 3005, of the intent to repatriate cultural items under the control of Bryn Mawr College, Bryn Mawr, PA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

On an unknown date, two cultural items were removed from the Yazoo River region of Mississippi. William Sansom Vaux bequeathed a collection to the Academy of Natural Sciences (ANS) upon his death in 1882. That collection included the two cultural items. ANS accessioned them on June 27, 1912. In 1961, ANS loaned approximately 3,000 items to Bryn Mawr College, including the cultural items. In 1997, the ANS board voted to transfer control of the items to Bryn Mawr College and in 1998, ANS executed the transfer. The two unassociated funerary objects are one effigy pipe and one bowl.

Based on geographical and historical information provided by The Choctaw Nation of Oklahoma, the effigy pipe and bowl are culturally affiliated with The Choctaw Nation of Oklahoma. The geographical and historical evidence includes the 1820 Treaty of Doak's Stand, whereby The Choctaw Nation of Oklahoma ceded lands in the Yazoo River region to the United States.

Determinations Made by Bryn Mawr College

Officials of Bryn Mawr College have determined that:

• Pursuant to 25 U.S.C. 3001(3)(B), the two cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and The Choctaw Nation of Oklahoma.

Additional Requestors and Disposition

Lineal descendants or representatives of any Indian Tribe or Native Hawaiian organization not identified in this notice that wish to claim these cultural items should submit a written request with information in support of the claim to Marianne Weldon, Bryn Mawr College, 101 N Merion Avenue, Bryn Mawr, PA 19010, telephone (610) 526-5022, email mweldon@brynmawr.edu, by March 30, 2022. After that date, if no additional claimants have come forward, transfer of control of the unassociated funerary objects to The Choctaw Nation of Oklahoma may proceed.

Bryn Mawr College is responsible for notifying the Cherokee Nation; Chitimacha Tribe of Louisiana; Eastern Band of Cherokee Indians; Jena Band of Choctaw Indians; Mississippi Band of Choctaw Indians; The Chickasaw Nation; The Choctaw Nation of Oklahoma; The Muscogee (Creek) Nation; and the United Keetoowah Band of Cherokee Indians in Oklahoma that this notice has been published.

Dated: February 16, 2022.
Melanie O'Brien,
Manager, National NAGPRA Program.

[FR Doc. 2022-04108 Filed 2-25-22; 8:45 am]

BILLING CODE 4312-52-P